DEPARTMENT OF HOMELAND SECURITY

Federal Emergency Management Agency

44 CFR Part 67

[Docket ID FEMA-2011-0002; Internal Agency Docket No. FEMA-B-1196]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before October 3, 2011.

ADDRESSES: The corresponding preliminary Flood Insurance Rate Map (FIRM) for the proposed BFEs for each community is available for inspection at the community's map repository. The respective addresses are listed in the table below.

You may submit comments, identified by Docket No. FEMA-B-1196, to Luis Rodriguez, Chief, Engineering Management Branch, Federal Insurance and Mitigation Administration, Federal Emergency Management Agency, 500 C Street, SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Lake County, Illinois, and Incorporated Areas
Bull Creek (near Waukegan) | Approximately 0.41 mile downstream of Sheridan Road | +606 | +596 | City of Waukegan, Unincorporated Areas of Lake County, Village of Beach Park.
| Approximately 475 feet upstream of Lewis Avenue | None | +681
Bull Creek 27th Street Tributary | Approximately 0.51 mile downstream of 33rd Street | None | +622 | City of Zion, Village of Beach Park.
| Approximately 700 feet upstream of Lewis Avenue | None | +685
Bull Creek North Branch | Approximately 1,600 feet downstream of Wadsworth Road | None | +613 | City of Waukegan, City of Zion, Village of Beach Park.
| Approximately 200 feet upstream of Lewis Avenue | None | +683
Glen Flora Tributary | Approximately 540 feet upstream of Pond Loop Road | None | +585 | City of Waukegan.
| Approximately 0.51 mile upstream of Sheridan Road | None | +642
* National Geodetic Vertical Datum. | + North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Waukegan
Maps are available for inspection at City Hall, 100 North Martin Luther King Jr. Avenue, Waukegan, IL 60085.
City of Zion
Maps are available for inspection at City Hall, 2828 Sheridan Road, Zion, IL 60099.
Unincorporated Areas of Lake County
Maps are available for inspection at the Lake County Courthouse, 18 North County Street, Waukegan, IL 60085.
Village of Beach Park
Maps are available for inspection at the Village Hall, 11270 West Wadsworth Road, Beach Park, IL 60099.
Bossier Parish, Louisiana, and Incorporated Areas
Flat River | Approximately 2.0 miles downstream of State Route 527 | +154 | +153 | City of Bossier City, Unincorporated Areas of Bossier Parish.
| Approximately 0.42 mile downstream of State Route 612 (Sligo Road) | +156 | +155
Red Chute Bayou | At Smith Road | +154 | +153 | Unincorporated Areas of Bossier Parish.
Approximately 1,125 feet downstream of State Route 612 (Sligo Road) | +156 | +157
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Bossier City
Maps are available for inspection at City Hall, 620 Benton Road, Bossier City, LA 71171.
Unincorporated Areas of Bossier Parish
Maps are available for inspection at the Bossier Parish Courthouse, 204 Burt Boulevard, Benton, LA 71006.
Madison Parish, Louisiana, and Incorporated Areas
Brushy Bayou | At the downstream side of I-20 | None | +80 | City of Tallulah, Village of Richmond.
| At the upstream side of I-20 | None | +81
Cypress Bayou | Approximately 0.7 mile downstream of I-20 | None | +81 | Village of Delta, Village of Mound.
| Approximately 428 feet upstream of U.S. Route 80 | None | +85
Ditch L-7CC-1 | Approximately 682 feet upstream of the Lower Roundaway Bayou confluence | None | +77 | City of Tallulah, Unincorporated Areas of Madison Parish, Village of Richmond.
| At the downstream side of State Route 601 | None | +83
Ditch L-7CC-2 | Approximately 440 feet downstream of I-20 | +77 | +78 | Unincorporated Areas of Madison Parish, Village of Richmond.
| At the downstream side of Burnside Road | None | +78
Mississippi River | Approximately 0.9 mile downstream of I-20 | None | +102 | Village of Delta.
| Approximately 2.0 miles upstream of I-20 | None | +103
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Tallulah
Maps are available for inspection at 204 North Cedar Street, Tallulah, LA 71282.
Unincorporated Areas of Madison Parish
Maps are available for inspection at 100 North Cedar Street, Tallulah, LA 71282.
Village of Delta
Maps are available for inspection at 200 1st Street, Delta, LA 71233.
Village of Mound
Maps are available for inspection at 100 North Cedar Street, Tallulah, LA 71282.
Village of Richmond
Maps are available for inspection at 598 Wood Street, Richmond, LA 71282.
Bernalillo County, New Mexico, and Incorporated Areas
Basketball Pond | Entire shoreline | None | +5421 | City of Albuquerque.
Glenrio Storm Drain (Shallow ponding area at the intersection of Palisades Drive Northwest and Glenrio Drive Northwest) | Entire shoreline | None | +5095 | City of Albuquerque.
Glenrio Storm Drain | Approximately 650 feet downstream of the intersection of Hanover Road Northwest and 54th Street Northwest | None | +5095 | City of Albuquerque.
| At the intersection of 56th Street Northwest and Hanover Road Northwest | None | +5095
Kirtland Detention Pond | Entire shoreline | None | +5359 | City of Albuquerque.
McKnight Storm Drain | Sheet flow area between Cyndi Court Northeast and Embudo Channel | #1 | #3 | City of Albuquerque.
Shallow ponding area southeast of the intersection of Alameda Boulevard Northwest and the Albuquerque Main Line Canal | Entire shoreline | +5001 | +4997 | Unincorporated Areas of Bernalillo County.
Sheet Flow along Candelaria Avenue, Northeast | Sheet flow area along Candelaria Avenue, Northeast between Vermont Street Northeast and Louisiana Boulevard Northeast | None | #1 | City of Albuquerque.
Sheet Flow between San Mateo Boulevard Southeast and Gibson Boulevard Southeast | At the intersection of San Mateo Boulevard Southeast and Kathryn Avenue, Southeast | None | #1 | City of Albuquerque.
| At the intersection of Gibson Boulevard Southeast and Cardenas Drive Southeast | None | #1
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Albuquerque
Maps are available for inspection at the Planning Department, Development and Building Services Division, 600 2nd Street Northwest, Albuquerque, NM 87103.
Unincorporated Areas of Bernalillo County
Maps are available for inspection at the Bernalillo County Public Works Division, 2400 Broadway Southeast, Albuquerque, NM 87102.
Santa Fe County, New Mexico, and Incorporated Areas
Arroyo Barranca | Approximately 100 feet upstream of the Arroyo Mascaras confluence | None | +7022 | City of Santa Fe.
| Approximately 100 feet upstream of Camino Del Norte | None | +7338
Arroyo De La Paz | At the Arroyo De Los Antores confluence | None | +6722 | City of Santa Fe.
| Approximately 1,000 feet upstream of Rodeo Road | None | +6802
Arroyo De La Piedra | Approximately 300 feet downstream of Vallecita Drive | +7099 | +7103 | City of Santa Fe.
| Approximately 1,400 feet upstream of Barranca Drive | None | +7435
Arroyo De Los Amigos | Approximately 100 feet upstream of the Arroyo De Los Chamisos confluence | None | +6852 | City of Santa Fe.
| Approximately 1,400 feet upstream of Saint Michaels Drive | None | +7016
Arroyo De Los Antores | Approximately 200 feet upstream of the Arroyo De Los Chamisos confluence | None | +6701 | City of Santa Fe.
| Approximately 600 feet upstream of Zia Road | None | +6738
Arroyo De Los Antores Ponding Area | Entire shoreline | None | +6750 | City of Santa Fe.
Arroyo De Los Antores Sheet Flow | Sheet flow areas along the Arroyo De Los Antores (Lowest Flood Depth) | None | #1 | City of Santa Fe.
| Sheet flow areas along the Arroyo De Los Antores (Highest Flood Depth) | None | #2
Arroyo En Medio | Approximately 500 feet upstream of the Arroyo De Los Chamisos confluence | None | +6754 | City of Santa Fe, Unincorporated Areas of Santa Fe County.
| Approximately 1,200 feet upstream of Cloudstone Drive | None | +7510
Arroyo Hondo | At the Arroyo De Los Chamisos confluence | None | +6098 | City of Santa Fe, Unincorporated Areas of Santa Fe County.
| Approximately 70 feet upstream of County Road 67F | None | +7428
Arroyo Hondo Split Flow | Approximately 0.7 mile upstream of Rancho Viejo Boulevard | None | +6400 | Unincorporated Areas of Santa Fe County.
| Approximately 1.8 miles upstream of Arroyo Viejo Road | None | +6483
Arroyo Ranchito | Approximately 150 feet upstream of the Arroyo De La Piedra confluence | None | +7043 | City of Santa Fe.
| Approximately 600 feet upstream of Camino Encantado | None | +7320
Arroyo Saiz | At the upstream side of Avenida Primera | None | +7191 | City of Santa Fe.
| Approximately 0.6 mile upstream of Avenida Primera | None | +7339
Big Tesuque Creek | At the Rio Tesuque confluence | None | +6930 | Unincorporated Areas of Santa Fe County.
| Approximately 1.0 mile upstream of County Road 72A | None | +7234
Canada Ancha | Approximately 0.4 mile upstream of the Santa Fe River confluence | +7193 | +7194 | City of Santa Fe, Unincorporated Areas of Santa Fe County.
| Approximately 0.3 mile upstream of La Entrada | None | +7780
East Arroyo De La Piedra | At the Arroyo De La Piedra confluence | None | +7199 | City of Santa Fe.
| Approximately 0.7 mile upstream of Calle Conejo | None | +7585
Little Tesuque Creek | At the Rio Tesuque confluence | None | +6930 | Unincorporated Areas of Santa Fe County.
| Approximately 100 feet upstream of Bishops Lodge Road | None | +7140
Northeast Arroyo De Los Pinos | Approximately 80 feet upstream of 6th Street | None | +6828 | City of Santa Fe.
| Approximately 1,100 feet upstream of Luisa Street | None | +6955
Rio Tesuque | Approximately 0.5 mile downstream of Tesuque Village Road | None | +6693 | Pueblo of Tesuque, Unincorporated Areas of Santa Fe County.
| At the Big Tesuque Creek and Little Tesuque Creek confluence | None | +6930
Santa Cruz River | Approximately 1,000 feet downstream of State Route 106 | +5671 | +5670 | City of Espanola, Santa Clara Indian Reservation, Unincorporated Areas of Santa Fe County.
| Approximately 0.5 mile upstream of State Route 106 | +5701 | +5702
Unnamed Stream 31 | At the Rio Tesuque confluence | None | +6741 | City of Santa Fe, Unincorporated Areas of Santa Fe County.
| Approximately 500 feet upstream of Sangre De Cristo Drive | None | +7105
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Espanola
Maps are available for inspection at City Hall, 405 North Paseo de Onate, Espanola, NM 87532.
City of Santa Fe
Maps are available for inspection at City Hall, 200 Lincoln Avenue, Santa Fe, NM 87504.
Pueblo of Tesuque
Maps are available for inspection at the Pueblo of Tesuque Governor's Office, TP 804 Building 4, Santa Fe, NM 87506.
Santa Clara Indian Reservation
Maps are available for inspection at the Santa Clara Indian Reservation Governor's Office, 1 Kee Street, Espanola, NM 87532.
Unincorporated Areas of Santa Fe County
Maps are available for inspection at the Santa Fe County Building, 102 Grant Avenue, Santa Fe, NM 87504.

(Catalog of Federal Domestic Assistance No. 97.022, “Flood Insurance.”)

Dated: June 15, 2011.
Sandra K. Knight,
Deputy Federal Insurance and Mitigation Administrator, Mitigation, Department of Homeland Security, Federal Emergency Management Agency.

[FR Doc. 2011-16640 Filed 7-1-11; 8:45 am]

BILLING CODE 9110-12-P